DEPARTMENT OF THE INTERIOR

National Park Service

National Register of Historic Places; Notification of Pending Nominations

Nominations for the following properties being considered for listing in the National Register were received by the National Park Service before December 15, 2001. Pursuant to section 60.13 of 36 CFR Part 60 written comments concerning the significance of these properties under the National Register criteria for evaluation may be forwarded by United States Postal Service, to the National Register of Historic Places, National Park Service, 1849 C St., NW., NC400, Washington, DC 20240; by all other carriers, National Register of Historic Places, National Park Service, 800 N. Capitol St., NW., Suite 400, Washington, DC 20002; or by fax, 202-343-1836. Written or faxed comments should be submitted by January 28, 2002.

Carol D. Shull,
Keeper of the National Register of Historic Places.

CALIFORNIA

Santa Clara County

Donner—Houghton House, 156 E. St. John, San Jose, 01001483

IDAHO

Power County

American Falls Reservoir Flooded Townsite, American Falls Reservoir,American Falls, 01001480

IOWA

Cerro Gordo County

St. John Baptist Church, 715 6th St. SW, Mason City, 01001484

Dubuque County

Four Mounds Estate Historic District, 4900 Peru Rd., Dubuque, 01001487

Town Clock Building, 823-25 Main St., Dubuque, 01001488

Hardin County

Union Cemetery Gardener's Cottage, (Iowa Falls MPS) Union Cemetery,Iowa Falls, 01001486

Lucas County

First United Methodist Church, 923 Roland, Chariton, 01001485

LOUISIANA

Avoyelles Parish

Ponthieu, Adam, Store—Big Bend Post Office,8554 LA 451, Big Bend, 01001490

Vernon Parish

Booker—Lewis House, 102 East North St., Leesville, 01001489

First United Methodist Church, 202 N. Fifth St., Leesville, 01001491

NEW JERSEY

Morris County

New York Susquehanna & Western Railroad Station, Main St.,Butler Borough, 01001492

NEW YORK

Cayuga County

East Genoa Methodist Episcopal Church, 558 E. Genoa Rd., Genoa, 01001500

St. Peter's Episcopal Church Complex, (Historic Churches of the Episcopal Diocese of Central New York MPS) 169 Genesee St., Auburn, 01001508

Sterling Grist Mill Complex, 1332 NY 104A, Sterling, 01001498

Columbia County

Emmanuel Lutheran Church of Harlemville and Cemetery, Cty. 21 and Pheasant Ln., Harlemville Rd. at Ten Broeck Rd., Harlemville, 01001505

Cortland County

First Presbyterian Church, Courtland Cty Rd. 108B, Preble, 01001502

Erie County

East Main—Mechanic Streets Historic District, Approx. jct. of East Main and Mechanic Sts., Springville, 01001506

Jefferson County

Swathout Site—A04507.000038, Address Restricted, Clayton, 01001504

Madison County

Fenner Baptist Church, 3122 Bingley Rd., Fenner, 01001501

Montgomery County

Ames Academy Building, 611 Latimer Hill Rd., Ames, 01001496

Niagara County

Former Niagara Falls High School, 1201 Pine Ave., Niagara Falls, 01001507

Onondaga County

Elbridge Village Historic District, Roughly along NY 5 bet. Skaneatetes Creek and Carpenter's Brook, Elbridge, 01001494

Mills, Harriet May, House, 1074 W. Genesee St., Syracuse, 01001495

Oran Community Church, NY 92, Pompey, 01001503

Simmons, Alton, House, (Architecture of Ward Wellington Ward in Syracuse MPS) 309 Van Rensselaer St., Syracuse, 01001493

Oswego County

Lacona Railroad Station and Depot, 11 Park Ave., Lacona, 01001499

Sullivan County

Levitz Family Farm, 395 Beaver Dam Rd., Grahamsville, 01001497

OHIO

Cuyahoga County

Black, H., and Company Building, 1900-2000 or 2010 Superior Ave.,Cleveland, 01001523

Geauga County

Fowler's Mills Historic District, 10743-10779, 10750 Mayfield Rd.; 12426-12533 Fowlers Mill Rd., Chardon, 01001522

Highland County

Highland Egg and Poultry Company Building, 135 North West St., Hillsboro, 01001524

Virginia

Albemarle County

West Cote, Off VA 602 and VA 626, Howardsville, 01001510

Charlotte County

Woodfork, 3704 Woodfork Rd., Charlotte Court House, 01001509

Covington Independent City

First Baptist Church of Covington, Virginia, 337 S. Lexington Ave.,Covington (Independent City), 01001518

Hanover County

Sharp's Oakland, 12308 Verdon Rd., Doswell, 01001514

Lexington Independent City

Blandome, 101 Tucker St., Lexington (Independent City), 01001520

Lynchburg Independent City

Fort Early and Jubal Early Monument, 3511 Memorial Ave.,Lynchburg (Independent City), 01001517

Johnson, Dr. Robert Walker, House and Tennis Court, 1422 Pierce St., Lynchburg (Independent City), 01001519

Page County

Ruffner House, 440 Ruffner House Ln., Luray, 01001515

Patrick County

Stuart Uptown Historic District, Main St. and Blue Ridge St.,Stuart, 01001512

Powhatan County

Red Lane Tavern, 3009 Lower Hill Rd., Powhatan, 01001516

Roanoke County

Black Horse Tavern—Bellvue Hotel and Office, 7223-7229 Old Mountain Rd., Roanoke, 01001521

Starkey School, 6426 Merriman Rd., SW, Roanoke County, 01001513

Waynesboro Independent City

Waynesboro Downtown Historic District, Federal St., Main St., Wayne Ave., Waynesboro (Independent City), 01001511

WYOMING

Sublette County

Church of St. Hubert the Hunter and Library, US 191/189, Bondurant, 01001525

The fifteen day comment period has been reduced to three (3) days to aid in the preservation fo the following resources:

OHIO

Licking County

Newark Downtown Historic District, Roughly bounded by Church St., Second St., Fifth St., and Canal St., Newark, 01001482

Wayne County

Ault—Weygandt Farm, 15090 Back Massillon Rd., Orrville, 01001481

[FR Doc. 02-732 Filed 1-10-02; 8:45 am]

BILLING CODE 4310-70-P